DEPARTMENT OF THE INTERIOR

Fish and Wildlife Service

[FWS-R6-ES-2020-N101; FXES11130600000]

Endangered and Threatened Wildlife and Plants; Draft Recovery Plan for Jones Cycladenia

AGENCY: Fish and Wildlife Service, Interior.

ACTION: Notice of document availability for review and comment.

SUMMARY: We, the U.S. Fish and Wildlife Service, announce the availability of a draft recovery plan for Jones cycladenia (Cycladenia humilis var. Jonesii), a plant listed as threatened under the Endangered Species Act. We are requesting review and comment from the public on this draft plan. The draft recovery plan includes objective, measurable criteria, and site-specific management actions as may be necessary to remove it from the Federal List of Endangered and Threatened Plants.

DATES: We must receive any comments on the draft recovery plan on or before March 15, 2021.

ADDRESSES: Document availability: Copies of the draft recovery plan are available at http://www.fws.gov/endangered/species/recovery-plans.html. Alternatively, you may request a copy by U.S. mail from the Utah Ecological Services Field Office, 2369 Orton Circle, Suite 50, West Valley City, Utah 84119, telephone: 801-975-3330. Persons who use a telecommunications device for the deaf may call the Federal Relay Service at 800-877-8339.

Submitting comments: If you wish to comment on the draft recovery plan, you may submit your comments in writing by email to yvette_converse@fws.gov, or by U.S. mail to the Field Supervisor at the address above.

FOR FURTHER INFORMATION CONTACT: Yvette Converse, Field Supervisor, at the above U.S. mail address or telephone: 801-975-3330.

SUPPLEMENTARY INFORMATION: We, the U.S. Fish and Wildlife Service (Service), announce the availability of a draft recovery plan for Jones cycladenia (Cycladenia humilis var. Jonesii), a plant listed as threatened under the Endangered Species Act of 1973, as amended (Act; 16 U.S.C. 1531 et seq.). We are requesting review and comment from the public on this draft recovery plan.

Background

Restoring an endangered or threatened animal or plant to the point where it is again a secure, self-sustaining member of its ecosystem is a primary goal of the Service's endangered species program. Recovery means improving the status of a listed species to the point at which listing is no longer necessary according to the criteria specified under section 4(a)(1) of the Act. The Act requires recovery plans for listed species unless such a plan would not promote the conservation of a particular species. To help guide recovery efforts, we prepare recovery plans to promote the conservation of the species.

The purpose of a recovery plan is to provide a recommended framework for the recovery of a species so that protection of the Act is no longer necessary. Pursuant to section 4(f) of the Act, a recovery plan must, to the maximum extent possible, include: (1) A description of site-specific management actions as may be necessary to achieve the plan's goal for the conservation and survival of the species; (2) objective, measurable criteria which, when met, would support a determination under section 4(a)(1) of the Act that the species should be removed from the List of Endangered and Threatened Species; and (3) estimates of time and costs required to carry out those measures needed to achieve the plan's goal and to achieve intermediate steps toward that goal.

We used our new recovery planning and implementation (RPI) process to develop the draft recovery plan for Jones cycladenia. The RPI process helps reduce the time needed to develop and implement recovery plans, increases the relevancy of the recovery plan over longer timeframes, and adds flexibility so that the recovery plan can be more easily adjusted to new information and circumstances. Under our RPI process, a recovery plan will include the three statutorily required elements for recovery plans—objective and measurable criteria, site-specific management actions, and estimates of time and cost—along with a concise introduction and our strategy for how we plan to achieve species recovery. The RPI recovery plan is supported by a separate species biological report, which provides the scientific background information and threat assessment for Jones cycladenia, which are key to the development of the recovery plan. The species biological report is an interim approach taken as we transition to using a species status assessment (SSA) framework as the standard format to analyze species as we make decisions under the Act, and includes similar analyses of the species' viability in terms of its resiliency, redundancy, and representation. A third, separate working document, called the recovery implementation strategy (RIS), steps down the more general descriptions of actions in the recovery plan to detail the specifics needed to implement the recovery plan, which improves the flexibility of the recovery plan. The RIS will be adaptable, with new information on actions incorporated, as needed, without requiring a concurrent revision to the recovery plan, unless changes to the three statutory elements are required.

On May 5, 1986, we listed Jones cycladenia as a threatened plant (51 FR 16526). We did not designate critical habitat. Detailed information regarding the plant's biology and life history can be found in the species biological report for Jones cycladenia (Service 2020, entire). The species biological report is an in-depth but not exhaustive review of the taxon's biology and threats, an evaluation of its biological status, and an assessment of the resources and conditions needed to maintain long-term viability. The species biological report provides the scientific background and threats assessment for our draft recovery plan.

Peer Review

In accordance with our policy, “Notice of Interagency Cooperative Policy for Peer Review in Endangered Species Act Activities,” which was published on July 1, 1994 (59 FR 34270), and our August 22, 2016, Memorandum “Peer Review Process,” we will seek the expert opinion of at least three appropriate and independent specialists regarding scientific data and interpretations contained in the species biological report and the draft recovery plan. We will send copies of both documents to the peer reviewers immediately following publication of this notice in the Federal Register. We will ensure that the opinions of peer reviewers are objective and unbiased by following the guidelines set forth in the Director's Memo, which updates and clarifies Service policy on peer review (U.S. Fish and Wildlife Service 2016). The purpose of such review is to ensure that our decisions are based on scientifically sound data, assumptions, and analysis. Accordingly, our final species biological report and recovery plan may differ from the draft documents.

Request for Public Comments

This notice opens the public review and comment period for our draft recovery plan for Jones cycladenia. Section 4(f) of the Act requires that we notify the public and provide an opportunity for public review and comment during the development of recovery plans. We will consider all information we receive during a public comment period when preparing the recovery plan for approval, and particularly look for comments that provide scientific rationale or factual background. The Service and other Federal agencies and partners will take these comments into consideration in the course of implementing an approved final recovery plan.

All comments we receive by the date specified (see DATES) will be considered prior to approval of the recovery plan. Written comments and materials regarding the recovery plan should be sent via the means in the ADDRESSES section.

We are specifically seeking comments and suggestions on the following questions:

• Understanding that the time and cost presented in the draft recovery plan will be fine-tuned when localized recovery implementation strategies are developed, are the estimated time and cost to recovery realistic? Is the estimate reflective of the time and cost of actions that may have already been implemented by Federal, State, county, or other agencies? Please provide suggestions or methods for determining a more accurate estimation.

• Do the draft recovery criteria provide clear direction to partners on what is needed to recover Jones cycladenia? How could they be improved for clarity?

• Are the draft recovery criteria both objective and measurable given the information available for Jones cycladenia now and into the future? Please provide suggestions.

• Understanding that specific, detailed, and area-specific recovery actions will be developed in the RIS, do the draft recovery actions presented in the draft recovery plan generally cover the types of actions necessary to meet the recovery criteria? If not, what general actions are missing? Are any of the draft recovery actions unnecessary for achieving recovery? Have we prioritized the actions appropriately?

Public Availability of Comments

We will summarize and respond to the issues raised by the public in an appendix to the approved final recovery plan. Before including your address, phone number, email address, or other personal identifying information in your comment, you should be aware that your entire comment—including your personal identifying information—may be made publicly available at any time. You may request at the top of your comment that we withhold this information from public review; however, we cannot guarantee that we will be able to do so.

Species Information

Jones cycladenia is a long-lived herbaceous perennial plant in the dogbane family. It is one of three varieties within the Sacramento waxy dogbane (Cycladenia humilis Benth.) species. The other two varieties occur in California (Cycladenia humilis var. humilis and var. venusta) (Burge et al. 2016, p. 28). Jones cycladenia is endemic to the Colorado Plateau in Utah and Arizona. It occurs between 4,000 to 6,660 feet (ft) (1,220 to 2,030 meters (m)) in elevation and typically grows on steep slopes in soils that are easily degraded, highly erodible, and difficult to rehabilitate after disturbances. It is found in sparsely vegetated plant communities of mixed desert scrub with less than five percent vegetative cover (JGMS 2012, pp. 21-24; JGMS 2014, Appendix; Sipes et al. 1994, p. 16; Spence and Palmquist 2007, p. 5). Jones cycladenia reproduces by seeds (sexually) and by clonal growth (asexually).

We do not know the historical distribution of Jones cycladenia. At the time of listing in 1986, it was known from four populations in Emery, Grand, and Garfield counties, Utah (51 FR 16526, May 5, 1986). It is now known to occur at 60 sites, which we have grouped into 20 populations in Emery, Grand, Garfield, San Juan, and Kane Counties of Utah and Mohave County, Arizona. We further group these populations into four recovery units (San Rafael Swell, Greater Circle Cliffs, Moab, and Pipe Spring).

The primary threats to Jones cycladenia at the time of listing were oil, natural gas, and mineral development. These remain the primary threats to the taxon. A large percentage of the total population occurs on lands open to future energy and mineral development. Without additional protections, we anticipate an increase in the magnitude of this threat affecting the taxon's future resiliency, redundancy and representation. Small populations, lack of pollinators, and sexual reproduction limitations may exacerbate the threat.

Conservation partners conducted additional surveys after Jones cycladenia was listed. This resulted in the discovery of 16 additional populations. Consequently, Jones cycladenia is now known from more sites and has a larger range than we estimated at the time of listing. The total population was estimated to be 7,500 stems when the taxon was listed; the most recent estimate is 79,196 stems (Service 2020, pp. 14-18).

The recovery units have not yet met the proposed delisting criteria in this draft recovery plan. Therefore, we anticipate that recovery will take a minimum of 10 years--recovery criteria include a requirement for stable to increasing populations in each of the four recovery units over a 10-year period. We have estimated recovery costs for a 15-year period for added flexibility during implementation of the recovery plan, when finalized.

Recovery Strategy

Below, we summarize components from our draft recovery plan. Please reference the draft recovery plan for full details (see ADDRESSES above).

The draft recovery plan describes the recovery goal as the conservation and survival of Jones cycladenia. For recovery, the taxon needs at least four (redundant) and persistent (resilient) recovery units across the taxon's range, where recruitment over time equals or exceeds loss of individuals and ecological and genetic diversity are maintained (representation). These conditions provide sufficient representation and redundancy across the taxon's range.

Recovery criteria in the draft plan include: (1) Maintaining stable or increasing population growth rates and evidence of viable seed production over a consecutive 10-year period for each of the 4 recovery units; (2) maintaining a range-wide total population of at least 3,500 individuals (approximately 77,700 stems (ramets) for at least 5 consecutive years; (3) each of the four recovery units have regulatory mechanisms or conservation plans in place that address habitat loss and degradation from energy and mineral development, thus helping meet population trend and abundance targets identified in the first two criteria; and (4) each of the four recovery units are represented in an off-site seed or tissue collection to preserve the genetic diversity of Jones cycladenia and provide added protection from potential stochastic events. Collections should represent at least 75 percent of the genetic diversity, as measured by the number of unique alleles, represented in each recovery unit. To help meet these criteria, the draft recovery plan identifies recovery actions for each criteria.

Authority

The authority for this action is section 4(f) of the Endangered Species Act, 16 U.S.C. 1533(f).

Noreen Walsh,
Regional Director, Lakewood, Colorado.

[FR Doc. 2021-00375 Filed 1-11-21; 8:45 am]

BILLING CODE 4333-15-P